Title 3—

The President

Proclamation 8116 of March 26, 2007

Education and Sharing Day, U.S.A., 2007

By the President of the United States of America

A Proclamation

A future of hope and opportunity in America requires that all our children develop the knowledge and character they need in life. On Education and Sharing Day, we recognize our responsibility to ensure that our young people have the foundation necessary to lead lives rich in purpose and fulfillment.

Education and Sharing Day honors the legacy of Rabbi Menachem Mendel Schneerson and emphasizes our commitment to teach the next generation of Americans the values that make our country strong. The Lubavitcher Rebbe believed that society should “make a new commitment to kindness,” and he helped to establish education and outreach centers offering social service programs and humanitarian aid around the world.

The character of our young people is strengthened by serving a cause greater than self and by the anchor of virtues, including courage and compassion. By instilling a spirit of service in our children, we create a more optimistic future for them and our Nation.

NOW, THEREFORE, I, GEORGE W. BUSH, President of the United States of America, by virtue of the authority vested in me by the Constitution and laws of the United States, do hereby proclaim March 30, 2007, as Education and Sharing Day, U.S.A. I call upon government officials, educators, volunteers, and all the people of the United States to reach out to young people and work to create a better, brighter, and more hopeful future for all.

IN WITNESS WHEREOF, I have hereunto set my hand this twenty-sixth day of March, in the year of our Lord two thousand seven, and of the Independence of the United States of America the two hundred and thirty-first.

[FR Doc. 07-1587

Filed 3-28-07; 8:53 am]

Billing code 3195-01-P